DEPARTMENT OF TRANSPORTATION

Federal Railroad Administration

Notice of Funding Opportunity for Magnetic Levitation Deployment Projects

AGENCY: Federal Railroad Administration (FRA), Department of Transportation (DOT).

ACTION: Notice of Funding Opportunity (NOFO or notice).

SUMMARY: This notice details the application requirements and procedures to obtain grant funding for eligible projects under the Magnetic Levitation Technology Deployment Program (Maglev Grants Program). This notice solicits applications for $2,000,000 in Maglev Grants Program funds. The opportunity described in this notice is made available under Catalog of Federal Domestic Assistance (CFDA) number 20.318, “Maglev Project Selection Program—SAFETEA-LU.”

DATES: Applications for funding under this solicitation are due no later than 5 p.m. ET July 31, 2020. Applications for funding, or supplemental material in support of an application, received after 5 p.m. ET on July 31, 2020 will not be considered for funding. Incomplete applications will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov, an applicant may submit an original and two (2) copies to Ruthie Americus, Office of Policy and Planning, Federal Railroad Administration, 1200 New Jersey Avenue SE, Room W36-412, Washington, DC 20590. However, due to delays caused by enhanced screening of mail delivered via the U.S. Postal Service, applicants are advised to use other means of conveyance (such as courier service) to assure timely receipt of materials.

FOR FURTHER INFORMATION CONTACT: For further information related to this notice, please contact Ruthie Americus, Office of Policy and Planning, Federal Railroad Administration, 1200 New Jersey Avenue SE, Room W36-403, Washington, DC 20590; email: ruthie.americus@dot.gov; phone: 202-493-0431.

SUPPLEMENTARY INFORMATION: Notice to applicants: FRA recommends that applicants read this notice in its entirety prior to preparing application materials. The definitions of key terms used throughout the NOFO are provided in Section 2(A). These key terms are capitalized throughout the NOFO. There are several administrative prerequisites and specific eligibility requirements described herein that applicants must comply with to submit an application. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

The purpose of this notice is to solicit applications for grants for eligible capital project costs and preconstruction planning activities for the deployment of magnetic levitation transportation projects, authorized under and funded in the Further Consolidated Appropriations Act, 2020, Div H, Tit I, Public Law 116-94 (2020 Appropriation), consistent with the language in section 1307(a) through (c) of Public Law 109-59 (SAFETEA-LU), as amended by section 102 of Public Law 110-244 (Technical Corrections Act) (23 U.S.C. 322 note).

2. Definitions of Key Terms

a. “Full Project Cost” means the total capital costs of a Maglev project including eligible project costs and the cost of stations, vehicles and equipment.

b. “Magnetic Levitation” or “Maglev” means transportation systems employing magnetic levitation that would be capable of safe use by the public at a speed in excess of 240 miles per hour.

c. “National Environmental Policy Act (NEPA)” is a Federal law that requires Federal agencies to analyze the environmental impacts of a proposed action, in consultation with appropriate Federal, State, and local authorities, and with the public. The NEPA class of action depends on the nature of the proposed action, its complexity, and the potential impacts. For purposes of this NOFO, NEPA also includes all related Federal laws and regulations including: the Clean Air Act, section 4(f) of the Department of Transportation Act, section 7 of the Endangered Species Act, and section 106 of the National Historic Preservation Act. Additional information regarding FRA's environmental processes and requirements are located at https://www.fra.dot.gov/environment.

d. “State” has the meaning such term has under 23 U.S.C. 101(a).

B. Federal Award Information

1. Available Award Amount

The total funding available for awards under this NOFO is $2,000,000. Should additional Maglev funds become available after the release of this NOFO, FRA may elect to award such additional funds to applications received under this NOFO.

2. Award Size

There are no predetermined minimum or maximum dollar thresholds for awards. FRA may not be able to award grants to all eligible applications, or even those applications that meet or exceed the stated evaluation criteria (see Section E, Application Review Information).

Projects may require more funding than is available. FRA encourages applicants to propose projects or components of projects that have operational independence that can be completed and implemented with the level of funding available together with other sources.

FRA strongly encourages applicants to identify and include State, local, public, or private funding or financing to support the proposed project to maximize competitiveness.

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight under 2 CFR 200.24. The term “grant” is used throughout this document and is intended to reference funding awarded through a grant agreement, as well as funding awarded through a cooperative agreement. The funding provided under this NOFO will be made available to grant recipients on a reimbursable basis. Applicants must certify that their expenditures are allowable, allocable, reasonable, and necessary to the approved project before seeking reimbursement from FRA. Additionally, the grant recipient is expected to expend matching funds at the required percentage concurrent with Federal funds throughout the life of the project. See an example of standard terms and conditions for FRA grant awards at: https://railroads.dot.gov/elibrary/notice-grant-award-example. This template is subject to revision.

C. Eligibility Information

This section of the notice explains applicant eligibility, cost sharing and matching requirements, and project eligibility. Applications that do not meet the requirements in this section will be ineligible for funding. Instructions for submitting eligibility information to FRA are detailed in Section D of this NOFO.

1. Eligible Applicants

Applicants must be a State, States, or an authority designated by one or more States.¹ If the proposed Maglev service would operate in more than one State, a single State or designated State authority should apply on behalf of all participating States. FRA encourages States to submit applications through their respective State Departments of Transportation. Eligible applicants may reference entities that are not eligible applicants in an application as a project partner.

¹ See section D(2)(a)(iv) for supporting documentation required to demonstrate eligibility under this eligibility category.

2. Cost Sharing or Matching

The Federal share of Full Project Costs will not exceed 80 percent. The funds available under this NOFO are available only for eligible project costs of eligible Maglev projects. As a result, under this NOFO the Federal share of the estimated total eligible project costs will not exceed 80 percent. The estimated total cost of a project must be based on the best available information, including engineering studies, studies of economic feasibility, environmental analyses, and information on the expected use of equipment and/or facilities. Additionally, in preparing estimates of total project costs, applicants should refer to FRA's cost estimate guidance documentation, “Capital Cost Estimating: Guidance for Project Sponsors,” which is available at: https://www.fra.dot.gov/Page/P0926.

The minimum 20 percent non-Federal share may be composed of public sector (e.g., state or local) and/or private sector funding. FRA will not consider any Federal financial assistance, nor any non-Federal funds already expended (or otherwise encumbered) toward the matching requirement, unless compliant with 2 CFR 200.306. FRA will give preference to applications proposing cash contributions for the required 20 percent of the non-Federal share. Eligible in-kind contributions may also be accepted for any non-Federal matching beyond the required 20 percent. In-kind contributions, including the donation of services, materials, and equipment, may be credited as a project cost, in a uniform manner consistent with 2 CFR 200.306. Moreover, FRA encourages applicants to broaden their funding table in applications. FRA will give preference to applications proposing a non-Federal share exceeding the required 20 percent, providing the required 20 percent non-Federal share as a cash contribution, and consisting of funding from multiple sources to demonstrate broad participation and cost sharing from affected stakeholders.

Before applying, applicants should carefully review the principles for cost sharing or matching in 2 CFR 200.306. See Section D(2)(a)(iii) for required application information on non-Federal match and Section E for further discussion of FRA's consideration of matching funds in the review and selection process. FRA will only approve pre-award costs consistent with 2 CFR 200.458, as applicable. See Section D(6).

3. Project Eligibility

Eligible Maglev projects must: (1) Involve a segment or segments of a high-speed ground transportation corridor; (2) result in an operating transportation facility that provides a revenue producing service; (3) and be approved by the Secretary based on an application submitted to the Secretary of Transportation by a State or authority designated by one or more States. With respect to the second criterion, Congress titled section 1307 of SAFETEA-LU “Deployment of Magnetic Levitation Transportation Projects” and provided funding through section 1101(a)(18) of SAFETEA-LU, as amended by the Technical Corrections Act, for the “deployment of magnetic levitation projects.” Congress also provided funding through the 2020 Appropriation for the “deployment of magnetic levitation projects.” FRA interprets this language to mean that the Federal funds be used to directly advance and result in the construction of a Maglev project.

Funding under this NOFO is available for eligible project costs for eligible Maglev projects. Eligible project costs are: (1) The capital cost of the fixed guideway infrastructure of a Maglev project including land, piers, guideways, propulsion equipment and other components attached to guideways, power distribution facilities (including substations), control and communications facilities, access roads, and storage, repair, and maintenance facilities and (2) preconstruction planning activities. Eligible project costs exclude new stations and rolling stock, as well as costs incurred solely for land or right-of-way acquisition (even if such acquisition is to secure operational right-of-way).

Funding under this NOFO may not be used for costs that are included in or used to meet cost sharing or matching requirements of, any other Federally-financed award or program. If the applicant is seeking additional funding for a project that has already received Federal financial assistance, costs associated with the scope of work for the existing Federal award are not eligible for funding under this NOFO. Only new scope (e.g., new deliverables) is eligible for funding under this NOFO.

D. Application and Submission Information

Required documents for the application are outlined in the following paragraphs. Applicants must complete and submit all components of the application. See Section D(2) for the application checklist. FRA welcomes the submission of other relevant supporting documentation that the applicant would like to submit, such as planning, environmental documentation, engineering and design documentation, letters of support, etc. that will not count against the Project Narrative 25-page limit. In particular, applications accompanied by completed feasibility studies and cost estimates may be more favorably considered during the evaluation process, as they demonstrate that an applicant has a greater understanding of the scope and cost of the project.

1. Address To Request Application Package

Applicants must submit all application materials in their entirety through http://www.Grants.gov no later than 5:00 p.m. ET, on July 31, 2020. Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided, please contact Ruthie Americus, Office of Policy and Planning, Federal Railroad Administration, 1200 New Jersey Avenue SE, Room W36-403, Washington, DC 20590; email: ruthie.americus@dot.gov.

Content and Form of Application Submission

FRA strongly advises applicants to read this section carefully. Applicants must submit all required information and components of the application package to be considered for funding.

Required documents for an application package are outlined in the checklist below.

• Project Narrative (see D.2.a)

• Statement of Work (see D.2.b.i)

• SF424—Application for Federal Assistance

• Either: SF 424A—Budget Information for Non-Construction projects or SF 424C—Budget Information for Construction

• Either: SF 424B—Assurances for Non-Construction projects or SF 424D—Assurances for Construction

• FRA's Additional Assurances and Certifications

• SF LLL—Disclosure of Lobbying Activities

a. Project Narrative

This section describes the minimum content required in the Project Narrative of the grant application. The Project Narrative must follow the basic outline below to address the program requirements and assist evaluators in locating relevant information.

I. Cover Page | See D.2.a.i
II. Project Summary | See D.2.a.ii
III. Project Funding Summary | See D.2.a.iii
IV. Applicant Eligibility Criteria | See D.2.a.iv
V. Project Eligibility Criteria | See D.2.a.v
VI. Detailed Project Description | See D.2.a.vi
VII. Project Location | See D.2.a.vii
VIII. Evaluation and Selection Criteria | See D.2.a.viii
IX. Project Implementation and Management | See D.2.a.ix
X. Planning Readiness | See D.2.a.x
XI. Environmental Readiness | See D.2.a.xi

The above content must be provided in a narrative statement submitted by the applicant. The Project Narrative may not exceed 25 pages in length (excluding cover pages, table of contents, and supporting documentation). FRA will not review or consider Project Narratives beyond the 25-page limitation. If possible, applicants should submit supporting documents via website links rather than hard copies. If supporting documents are submitted, applicants must clearly identify the page number of the relevant portion of the supporting documentation in the Project Narrative. The Project Narrative must adhere to the following outline.

i. Cover Page: Include a cover page that lists the following elements in either a table or formatted list:

Project Title
Applicant
The amount of Federal funding requested
The amount of non-Federal match
The total project cost
City(ies), State(s) where the project is located
Congressional district(s) where the project is located

ii. Project Summary: Provide a brief 4-6 sentence summary of the proposed project and what the project will entail. Include challenges the proposed project aims to address, and summarize the intended outcomes and anticipated benefits that will result from the proposed project.

iii. Project Funding Summary: Indicate in table format the amount of Federal funding requested, the proposed non-Federal match, identifying contributions from the private sector if applicable, and total project cost. Describe the non-Federal funding arrangement, including multiple sources of non-Federal funding if applicable. Include funding commitment letters outlining funding agreements, as attachments or in an appendix. Identify any other sources of Federal funds committed to the project and any pending Federal requests. If Federal funding is proposed as match, demonstrate the applicant's determination of eligibility for such use and the legal basis for that determination. Also, note if the requested Federal funding must be obligated or spent by a certain date due to dependencies or relationships with other Federal or non-Federal funding sources, related projects, law, or other factors. Include funding commitment letters outlining funding agreements, as attachments or in an appendix. If applicable, provide the type and estimated value of any proposed in-kind contributions, and demonstrate how the in-kind contributions meet the requirements in 2 CFR 200.306.

Example Project Funding Table:

Task No. | Task name/Project component |  | Cost | Percentage of total cost
1
2
Total Project Cost
Federal Funds Received from Previous Grants
Maglev Federal Funding Request
Non-Federal Funding/Match |  | Cash: |
|  | In-Kind:
Portion of Non-Federal Funding from the Private Sector
Portion of Non-Federal Funding from the Public Sector
Pending Federal Funding Requests

iv. Applicant Eligibility Criteria: Explain how the applicant meets the applicant eligibility criteria outlined in Section C of this notice. For authorities designated by one or more States, the explanation must include citations to the applicable enabling legislation and references to applicable documentation.

v. Project Eligibility Criteria: Explain how the project meets the project eligibility criteria in Section C(3) of this notice.

vi. Detailed Project Description: Include a detailed project description that expands upon the summary required above. This detailed description should provide, at a minimum: additional background on the transportation challenges the project aims to address, the expected users, beneficiaries, and outcomes of the project, and any other information the applicant deems necessary to justify the proposed project. Be specific regarding the relevance or relationship of the proposed project to other investments in the region along the corridor, as well as the operating changes that are anticipated to result from the introduction and integration of Maglev services within existing transportation corridors and assess the major risks (including safety risks) or obstacles to Maglev's successful deployment and operation. Provide a detailed summary of all work completed to date, including any preliminary engineering work, the project's previous accomplishments and funding history including Federal financial assistance, and a chronology of key documents produced and funding events (e.g., grants and financing). An applicant should specify whether it is seeking funding for a project that has already received Federal financial assistance, and if applicable, explain how the new scope proposed to be funded under this NOFO relates to the previous scope. Consistent with the Department's R.O.U.T.E.S. Initiative (https://www.transportation.gov/rural), the Department encourages applicants to describe how activities proposed in their application would address the unique challenges facing rural transportation networks, regardless of the geographic location of those activities.

vii. Project Location: Include geospatial data for the project, as well as a map of the project's location. Include the Congressional districts in which the project will take place.

viii. Evaluation and Selection Criteria: Include a thorough discussion of how the proposed project meets all the evaluation and selection criteria, as outlined in section E of this notice. If an application does not sufficiently address the evaluation criteria and the selection criteria, it is unlikely to be a competitive application. For the life-cycle cost selection criteria, applicants should demonstrate a credible plan to maintain their asset without having to rely on Federal funding including a description of the applicants' approach to ensuring operations and maintenance will not be underfunded in future years.

ix. Project Implementation and Management: Describe proposed project implementation and project management arrangements for the full Maglev corridor project, including the activities proposed in this application. Include descriptions of the expected arrangements for project contracting, contract oversight, change-order management, risk management, and conformance to Federal requirements for project progress reporting (see https://www.fra.dot.gov/Page/P0274). Identify key personnel involved in the implementation and management of the project and describe their qualifications and functional responsibilities associated with the project. Describe experience in managing and overseeing similar projects.

x. Planning Readiness: Provide information about the planning process that analyzed the investment needs and service objectives of the project. If applicable, cite sources of this information from a service development plan, State or regional rail plan, or similar planning document where the project has been identified for solving a specific existing transportation problem, and makes the case for investing in the proposed solution. Describe the plan to pay for any planning, land acquisition, buildout, testing, and implementation of the project, and specify long term financial plans to own, operate and maintain Maglev services.

xi. Environmental Readiness: Describe anticipated environmental or historic preservation impacts associated with the proposed project, any environmental or historic preservation analyses that have been prepared, and any ongoing progress toward completing environmental documentation or clearance required for the proposed project under NEPA as defined in this NOFO. Provide, as available, a schedule to complete these actions. Applicants are encouraged to contact FRA and obtain preliminary direction regarding the appropriate NEPA class of action and required environmental documentation. Generally, projects will be ineligible to receive funding if they have begun construction activities prior to the applicant/grant recipient receiving written approval from FRA that all environmental and historical analyses have been completed.

b. Additional Application Elements

Applicants must submit:

i. A Statement of Work (SOW) addressing the scope, schedule, and budget for the proposed project if it were selected for award. The SOW must contain sufficient detail so FRA, and the applicant, can understand the expected outcomes of the proposed work to be performed and can monitor progress toward completing project tasks and deliverables during a prospective grant's period of performance. Applicants must use FRA's standard SOW, schedule, and budget templates to be considered for award. The templates are located at https://www.fra.dot.gov/Page/P0325. When preparing the budget, the total cost of a project must be based on the best available information as indicated in cited references that include engineering studies, studies of economic feasibility, environmental analyses, and information on the expected use of equipment or facilities

ii. SF424—Application for Federal Assistance.

iii. Either: SF 424A—Budget Information for Non-Construction projects or SF 424C—Budget Information for Construction.

iv. Either: SF 424B—Assurances for Non-Construction projects or SF 424D—Assurances for Construction.

v. FRA's Additional Assurances and Certifications; and

vi. SF LLL—Disclosure of Lobbying Activities.

vii. A statement that the lead applicant has a system for procuring property and services under a Federal award under this NOFO that supports the provisions in 2 CFR 200 Subpart D-Procurement Standards at 2 CFR 200.317-326 and 2 CFR 1201.317.

viii. A statement indicating whether the applicant or any of its principals:

a. Is presently suspended, debarred, voluntarily excluded, or disqualified;

b. has been convicted within the preceding 3 years of any of the offenses listed in 2 CFR 180.800(a); or had a civil judgment rendered against the organization or the individual for one of those offenses within that time period;

c. is presently indicted for, or otherwise criminally or civilly charged by a governmental entity (Federal, state or local) with, commission of any of the offenses listed in 2 CFR 180.800(a); or,

d. has had one or more public transactions (Federal, state, or local) terminated within the preceding 3 years for cause or default (including material failure to comply).

Forms needed for the electronic application process are at www.Grants.gov.

c. Post-Selection Requirements

See Section F(2) of this notice for post-selection requirements.

3. Unique Entity Identifier, System for Award Management (SAM), and Submission Instructions

To apply for funding through Grants.gov, applicants must be properly registered in SAM before submitting an application, provide a valid unique entity identifier, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable Data Universal Numbering System (DUNS) and SAM requirements, and if an applicant has not fully complied with the requirements by the time the Federal awarding agency is ready to make a Federal award, the Federal awarding agency may determine that the applicant is not qualified to receive a Federal award and use that determination as a basis for making a Federal award to another applicant. (Please note that if a Dun & Bradstreet DUNS number must be obtained or renewed, this may take a significant amount of time to complete.) Late applications that are the result of a failure to register or comply with Grants.gov applicant requirements in a timely manner will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

b. Register With SAM at www.SAM.gov

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

c. Create a Grants.gov Username and Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html

4. Submission Dates and Times

Applicants must submit complete applications in their entirety to www.Grants.gov no later than 5:00 p.m. ET, July 31, 2020. FRA reviews www.Grants.gov information on dates/times of applications submitted to determine timeliness of submissions. Late applications will be neither reviewed nor considered. Delayed registration is not an acceptable reason for late submission. Applicants are strongly encouraged to apply early to ensure that all materials are received before this deadline.

To ensure a fair competition of limited discretionary funds, the following conditions are not valid reasons to permit late submissions: (1) Failure to complete the registration process before the deadline; (2) failure to follow Grants.gov instructions on how to register and apply as posted on its website; (3) failure to follow all instructions in this NOFO; and (4) technical issues experienced with the applicant's computer or information technology environment.

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

5. Intergovernmental Review

Executive Order 12372 requires applicants from State and local units of government or other organizations providing services within a State to submit a copy of the application to the State Single Point of Contact (SPOC), if one exists, and if this program has been selected for review by the State. Applicants must contact their State SPOC to determine if the program has been selected for State review.

6. Funding Restrictions

Consistent with 2 CFR 200.458, FRA will only approve pre-award costs if such costs are incurred pursuant to the negotiation and in anticipation of the grant agreement and if such costs are necessary for efficient and timely performance of the scope of work. Under 2 CFR 200.458, grant recipients must seek written approval from FRA for pre-award activities to be eligible for reimbursement under the grant. Activities initiated prior to the execution of a grant or without written approval may not be eligible for reimbursement or included as a grant recipient's matching contribution. Cost sharing or matching may be used only for authorized Federal award purposes.

As stated in Section C(3), funding under this NOFO is not available for costs incurred for new stations and rolling stock, as well as costs incurred for land or right-of-way acquisition (even if such acquisition is to secure operational right-of-way).

7. Other Submission Requirements

For any supporting application materials that an applicant cannot submit via Grants.gov, an applicant may submit an original and two (2) copies to Ruthie Americus, Office of Policy and Planning, Federal Railroad Administration, 1200 New Jersey Avenue SE, Room W36-412, Washington, DC 20590. However, due to delays caused by enhanced screening of mail delivered via the U.S. Postal Service, FRA advises applicants to use other means of conveyance (such as courier service) to assure timely receipt of materials before the application deadline. Additionally, if documents can be obtained online, providing instructions to FRA on how to access files on a referenced website may also be sufficient.

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

E. Application Review Information

1. Criteria

a. Eligibility, Completeness and Applicant Risk Review

FRA will first screen each application for eligibility (eligibility requirements are outlined in Section C of this notice), completeness (application documentation and submission requirements are outlined in Section D of this notice), applicant risk and the 20 percent minimum match in determining whether the application is eligible.

b. Evaluation Criteria

FRA subject-matter experts will evaluate all eligible and complete applications against the following evaluation criteria:

i. The extent to which the project would feasibly integrate Maglev systems with conventional rail systems, such as establishing efficient connections and transfers.

ii. The extent to which funds awarded under this section would result in investments that are beneficial not only to the Maglev project, but also to other current or near-term transportation projects.

iii. The degree to which the project demonstrates: (a) The potential for public-private partnerships and (b) that the project will stand alone as a complete, self-sustaining operation where fully allocated operating expenses of the Maglev service are projected to be offset by revenues attributable to the service.

iv. The extent of the demonstrated financial commitment to the construction of the proposed project from both non-Federal public and private sources.

v. The extent to which the project demonstrates coordination and consistency with any applicable ongoing or completed environmental and planning studies for passenger rail on or connecting to the geographic route segment being proposed for Maglev investment.

vi. The degree to which the project will successfully operate in the variety of Maglev operating conditions which are to be expected in the United States. For example, these conditions might include a variety of at-grade, elevated and depressed guideway structures, extreme temperatures, and intermodal connections at terminals.

vii. The feasibility of the project meeting a top speed of at least 240 miles per hour (MPH). FRA will also consider the ability to meet higher speeds as well as the duration that speeds of at least 240 MPH can be attained.

c. Selection Criteria

In addition to the eligibility and completeness review and the evaluation criteria outlined in this section, FRA will apply the following selection criteria.

i. FRA will take into account the following key Departmental objectives:

a. Supporting economic vitality at the national and regional level;

b. Leveraging Federal funding to attract other, non-Federal sources of infrastructure investment;

c. Preparing for future operations and maintenance costs associated with the project's life-cycle, as demonstrated by a credible plan to maintain assets without having to rely on future Federal funding;

d. Using innovative approaches to improve safety and expedite project delivery; and,

e. Holding grant recipients accountable for their performance and achieving specific, measurable outcomes identified by grant applicants.

ii. In determining the allocation of program funds, FRA may also consider geographic diversity, diversity in the size of the systems receiving funding, the applicant's receipt of other competitive awards, projects located in or that support transportation service in a qualified opportunity zone designated pursuant to 26 U.S.C. 1400Z-1, the percentage of non-Federal share provided, the percentage of non-Federal share provided as a cash contribution, and whether such non-Federal share is provided by multiple sources.

iii. Consistent with the Department's R.O.U.T.E.S. Initiative (https://www.transportation.gov/rural), the Department recognizes that rural transportation networks face unique challenges. To the extent that those challenges are reflected in the merit criteria listed in this section, the Department will consider how the activities proposed in the application will address those challenges, regardless of the geographic location of those activities.

2. Review and Selection Process

FRA will conduct a four-part application review process, as follows:

a. Screen applications for completeness and eligibility;

b. Evaluate eligible applications (completed by technical panels applying the evaluation criteria);

c. Review, apply selection criteria and recommend initial selection of projects for the FRA Administrator's review (completed by a non-career Senior Review Team, which includes senior leadership from the Office of the Secretary and FRA); and

d. Select awards for the Secretary's review and approval (completed by the FRA Administrator).

3. Reporting Matters Related to Integrity and Performance

Before making a Federal award with a total amount of Federal share greater than the simplified acquisition threshold (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

F. Federal Award Administration Information

1. Federal Award Notice

FRA will announce applications selected for funding in a press release and on the FRA website after the application review period. FRA will contact applicants with successful applications after announcement with information and instructions about the award process. This notification is not an authorization to begin proposed project activities. FRA requires satisfaction of applicable requirements by the applicant and a formal agreement signed by both the grant recipient and FRA, including an approved scope, schedule, and budget, to obligate the grant.

2. Administrative and National Policy Requirements

In connection with any program or activity conducted with or benefiting from funds awarded under this notice, grant recipients must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, grant recipients must ensure that no concession agreements are denied or other contracting decisions made based on speech or other activities protected by the First Amendment. If the Department determines that a grant recipient has failed to comply with applicable Federal requirements, the Department may terminate the award of funds and disallow previously incurred costs, requiring the grant recipient to reimburse any expended award funds.

Examples of administrative and national policy requirements include: 2 CFR 200 Subpart D—Procurement Standards, 2 CFR 1207.317 and 2 CFR 200.401; compliance with Federal civil rights laws and regulations; disadvantaged business enterprises; debarment and suspension; drug-free workplace; FRA's and OMB's Assurances and Certifications; Americans with Disabilities Act; safety requirements; NEPA; environmental justice and the Buy American Act, 41 U.S.C. 8301-8305. Financial assistance made available under this NOFO, and projects assisted with such assistance, are subject to 49 U.S.C. 5333(a). Unless otherwise stated in statutory or legislative authority, or appropriations language, all financial assistance awards follow the Uniform Administrative Requirements, Cost Principles and Audit Requirements for Federal Awards at 2 CFR 200 and 2 CFR 1201.

Grant recipients must comply with applicable appropriations act requirements and all relevant requirements of 2 CFR part 200. Rights to intangible property under grants awarded under this NOFO are governed in accordance with 2 CFR 200.315. Unless otherwise stated in the Federal award, FRA will not consider non-federal entities as that term is used in 2 CFR part 200 to include for-profit entities.

See an example of standard terms and conditions for FRA grant awards at https://www.fra.dot.gov/eLib/details/L05285. This template is subject to revision.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically.

b. Additional Reporting

Applicants selected for funding are required to comply with all reporting requirements in the standard terms and conditions for FRA grant awards including 2 CFR 180.335 and 2 CFR 180.350. See an example of standard terms and conditions for FRA grant awards at: https://www.fra.dot.gov/eLib/details/L05285.

If the Federal share of any Federal award under this NOFO may include more than $500,000 over the period of performance, applicants are informed of the post award reporting requirements reflected in 2 CFR part 200, Appendix XII—Award Term and Condition for Recipient Integrity and Performance Matters.

c. Performance Reporting

Each applicant selected for funding must collect information and report on the project's performance using measures mutually agreed upon by FRA and the grant recipient to assess progress in achieving strategic goals and objectives.

G. Federal Awarding Agency Contacts

For further information regarding this notice and the grants program, please contact Ruthie Americus, Office of Policy and Planning, Federal Railroad Administration,1200 New Jersey Avenue SE, Room W36-403, Washington, DC 20590; email: ruthie.americus@dot.gov.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The DOT regulations implementing the FOIA are found at 49 CFR 7 Subpart C—Availability of Reasonably Described Records under the Freedom of Information Act which sets forth rules for FRA to make requested materials, information and, and records publicly available under FOIA. Unless prohibited by law and to the extent permitted under the FOIA, contents of application and proposals submitted by successful applicants may be released in response to FOIA requests.

Quintin Kendall,
Deputy Administrator.

[FR Doc. 2020-14142 Filed 6-30-20; 8:45 am]

BILLING CODE 4910-06-P